DEPARTMENT OF THE INTERIOR

Bureau of Land Management

[NV-050-5853-EU]

Notice of Intent To Prepare a Supplemental Environmental Impact Statement to the Las Vegas Valley Disposal Boundary Final Environmental Impact Statement to Analyze Boundary Adjustments to and Management of the Conservation Transfer Area

AGENCY: Bureau of Land Management, Interior.

ACTION: Notice of intent.

SUMMARY: In accordance with Section 102(2)(c) of the National Environmental Policy Act (NEPA) of 1969, the Bureau of Land Management (BLM) Las Vegas Field Office, Nevada intends to prepare a Supplemental Environmental Impact Statement (SEIS) to the Las Vegas Disposal Boundary Final Environmental Impact Statement (FEIS) to analyze a possible adjustment of the boundary of the Conservation Transfer Area (CTA) referenced in the December 2004 FEIS and Record of Decision (ROD). Analysis of this possible boundary adjustment will include the management of approximately 13,400 acres of lands managed by the BLM. Under the ROD for the 2004 FEIS, approximately 5,000 acres were determined to be subject to a process of more study, collaboration, further NEPA analysis, and approval of a conservation agreement, prior to the transfer of title. The conservation agreement would determine the allowable uses to protect the resources within the CTA. Furthermore, the ROD stated that the boundary of the CTA would be adaptable to the needs and concerns of interested parties. The option was open to increase or decrease the size of the CTA with additional analysis. The SEIS to be prepared will analyze the effects of a variety of options for a final boundary for the CTA, as well as the impacts of several proposed uses, and the effect of retention of the CTA by the United States for management by the BLM. This analysis, and any decision made on the basis of this analysis, will ensure the direction reflected in the 2004 FEIS and ROD is met. This action is consistent with the Las Vegas Resource Management Plan of 1998, as superseded by the Southern Nevada Public Lands Management Act (SNPLMA) of 1998 and the Clark County Conservation of Public Land and Natural Resources Act (Clark County Act) of 2002.

DATES: Publication of this notice initiates the public scoping process. Scoping meetings will be held in Las Vegas, Nevada. All public meetings will be announced through the local news media, newsletters, and the BLM Web site at http://www.nv.blm.gov at least 15 days prior to the meeting.

ADDRESSES: Comments and information should be submitted to the BLM within 30 days of publication of this notice in the Federal Register. You may submit comments by any of the following methods:

• E-mail: Jeffrey_Steinmetz@nv.blm.gov.

• Fax: 702-515-5023.

• Mail: Bureau of Land Management, Las Vegas Field Office, Attention: Jeffrey Steinmetz, 4701 North Torrey Pines Drive, Las Vegas, Nevada 89130-2301. Documents pertinent to this proposal may be examined at the Las Vegas Field Office.

FOR FURTHER INFORMATION: For further information and/or to have your name added to our mailing list, contact Jeffrey Steinmetz, BLM Las Vegas Field Office, by telephone (702) 515-5097 or by e-mail (Jeffrey_Steinmetz@nv.blm.gov).

SUPPLEMENTARY INFORMATION: The BLM conducted 10 public stakeholder meetings from November, 2004 to August, 2005. More than 160 members of the public participated in this process. Input was received on behalf of (1) the City of Las Vegas, (2) the City of North Las Vegas, (3) conservation groups, (4) recreation groups, (5) regional governmental entities (flood, water, transportation), (6) State of Nevada, (7) U.S. Fish and Wildlife Service (both Ecological Services and Refuge), (8) Clark County, (9) education institutions, (10) utilities, (11) builders/developers, and (12) Native American Tribes. All meetings were open to the public. The BLM received preliminary input on a variety of topics, including vision statements, goals and objectives, boundaries, infrastructure, recreation, education, and management options. By the end of this process, the BLM determined that a SEIS was warranted to analyze proposed boundaries and management of the CTA because the complexity of issues surrounding the CTA and the interest of local governments and citizens necessitates a comprehensive analysis of any adjustment to the boundary and/or management of the CTA, as referenced in the 2004 FEIS and ROD. The major issue themes anticipated to be addressed in the SEIS include: Impacts to air quality; impacts to surface water hydrology and water quality; protection of fossil-bearing formations; protection of federally-listed species, state-listed species, and BLM sensitive species; analysis of development scenarios based on updated local community development land use plans; impacts to visual resources; balancing conflicting and compatible land uses; protection of cultural and paleontological resources; environmental justice, social and economic impacts, cumulative impacts of the project based on build-out (build-out will include land sales and other land use authorizations); and assessment of land surface conditions.

The purpose of the public scoping process is to determine relevant issues that will influence the scope of the environmental analysis as well as alternatives analyzed in the SEIS. You may submit comments on issues and planning criteria in writing to the BLM at any public scoping meeting, or you may submit them to the BLM using one of the methods listed in the ADDRESSES section above. To be most helpful, you should submit formal scoping comments within 30 days after publication of this notice in the Federal Register. Before including your address, phone number, e-mail address, or other personal identifying information in your comment, you should be aware that your entire comment—including your personal identifying information—may be made publicly available at any time. While you can ask us in your comment to withhold your personal identifying information from public review, we cannot guarantee that we will be able to do so. All submissions from organizations and businesses, and from individuals identifying themselves as representatives or officials of organizations or businesses, will be available for public inspection in their entirety. The minutes and list of attendees for each scoping meeting will be available to the public and open for 30 days after the meeting to any participant who wishes to clarify the view he or she expressed.

After gathering public comments on what additional issues the SEIS should address, the suggested issues will be placed in one of two categories:

1. Issues to be analyzed in the SEIS and

2. Issues beyond the scope of the SEIS.

Rationale for the placement of each issue in category one or two, as well as for the resolution of such issue(s) will be included in the SEIS and/or ROD for the CTA. During the scoping phase, the public is encouraged to help identify questions and concerns to be addressed through the management of the CTA.

An interdisciplinary approach will be used to develop the SEIS in order to consider the variety of resource issues and concerns identified. Disciplines involved in the SEIS process will include specialists with expertise in soils, minerals and geology; hydrology; botany; wildlife; transportation; visual resources; air quality; lands and realty; outdoor recreation; archaeology; paleontology; and sociology and economics, including community development.

Authority: 40 CFR 1501.7.

Dated: April 3, 2007.
Juan Palma,
Field Manager.

[FR Doc. E7-13102 Filed 7-5-07; 8:45 am]

BILLING CODE 5853-EU-P